DEPARTMENT OF HEALTH AND HUMAN SERVICES

National Institutes of Health

Proposed Data Collection; Comment Request; California Health Interview Survey (CHIS) Cancer Control Module (CCM)

SUMMARY: In compliance with the requirement of Section 3506(c)(2)(A) of the Paperwork Reduction Act of 1995 for opportunity for public comment on proposed data collection projects, the National Institutes of Health (NIH), National Cancer Institute (NCI) will publish periodic summaries of proposed projects to be submitted to the Office of Management and Budget (OMB) for review and approval.

Proposed Collection

Title: California Health Interview Survey (CHIS) Cancer Control Module (CCM). Type of Information Collection Request: New. Need and Use of Information Collection: NCI sponsored a Cancer Control Modules to the National Health Interview Survey (NHIS) and to the California Health Interview Survey (CHIS) administered in 2000. While the NHIS data have proven extremely useful in monitoring risk factors and screening related to cancer control, the national sample does not provide adequate numbers of racial-ethnic minorities to analyze particular domains within them, such as age by gender and income or education. The CHIS telephone survey, administered for the first time in 2000-2001, is designed to provide population-based, standardized health-related data for California counties. Initiated by the California Department of Health Services (CDHS) Center for Health Statistics, the Public Health Institute (PHI), and the UCLA Center for Health Policy Research (UCLA), the survey is largely funded by California sources. The 2000 CHIS CCM is similar in content to the 2000 NHIS CCM, and met its target of one sample adult in 55,000 households. California, the most populous state in the nation, is also the most racially and ethnically diverse. Specific populations of interest include Black or African American, Hispanic or Latino, Asian, Native Hawaiian or Other Pacific Islander, and American Indian or Alaska Native. The CHIS data was released in July 2002. NCI is using the CHIS and NHIS data from 2000/2001 to better estimate health-related behaviors and cancer risk factors for smaller racial/ethnic minority populations. Preliminary analyses suggest that the CHIS will provide improved estimates for cancer risk factors and screening among racial/ethnic minority populations. NCI will sponsor questions on cancer screening in the 2003 NHIS and to provide better estimates for smaller racial-ethnic minority populations, anticipates also sponsoring cancer-screening questions on the 2003 CHIS. NCI will also take advantage of the Housing and Environment Module to be included in the 2003 CHIS to ask respondents questions about environmental tobacco smoke and physical activity. Frequency of response: One-time. Affected public: Individuals. Types of Respondents: U.S. adults.

The annual reporting burden is as follows:

Table A.12-1.—Annualized Burden Estimates for CHIS Data Collection
Data collection | Estimated number of respondents | Frequency of response | Average time per response | Annual hour burden
Adult Core | 55,000 | 1 | .42 | 23,100
CCM | 55,000 | 1 | .08 | 4,400
Totals | 55,000 |  |  | 27,500

There are no Capital Costs to report. There are no Operating or Maintenance Costs to report.

Request for Comments

Written comments and/or suggestions from the public and affected agencies are invited on one or more of the following points: (1) Whether the proposed collection of information is necessary for the proposed performance of the functions of the agency, including whether the information shall have practical utility; (2) The accuracy of the agency's estimate of the burden of the proposed collection of information including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Nancy Breen, PhD, Project Officer, National Cancer Institute, EPN 4005, 6130 Executive Boulevard MSC 7344, Bethesda, Maryland 20892-7344, or call non-toll-free number (301) 496-8500, or FAX your request to (301) 435-3710, or E-mail your request, including your address, to breenn@mail.nih.gov.

Comments Due Date: Comments regarding this information collection are best assured of having their full effect if received within 60 days of the date of this publication.

Dated: September 25, 2002.
Reesa L. Nichols,
NCI Project Clearance Liaison.

[FR Doc. 02-25089 Filed 10-2-02; 8:45 am]

BILLING CODE 4140-01-M